DEPARTMENT OF THE INTERIOR

National Park Service

[NPS-WASO-NRNHL-DTS#-33457; PPWOCRADI0, PCU00RP14.R50000]

National Register of Historic Places; Notification of Pending Nominations and Related Actions

AGENCY: National Park Service, Interior.

ACTION: Notice.

SUMMARY: The National Park Service is soliciting electronic comments on the significance of properties nominated before February 19, 2022, for listing or related actions in the National Register of Historic Places.

DATES: Comments should be submitted electronically by March 22, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before February 19, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

COLORADO

Larimer County

Scott Apartments and Garage, The, 900 South College Ave., Fort Collins, SG100007550

GEORGIA

Muscogee County

Rose Hill School, 433 21st St., Columbus, SG100007533

ILLINOIS

Cook County

Muhammad, The Honorable Elijah, House, 4847 South Woodlawn Ave., Chicago, SG100007536

MAINE

York County

Marginal Way, Waterfront pedestrian path between 65 Perkins Rd. to 93 Shore Rd., Ogunquit, SG100007535

MINNESOTA

Hennepin County

St. Olafs Norwegian Lutheran Church, 2901 Emerson Ave. North, Minneapolis, SG100007534

OKLAHOMA

Kay County

Ponca City Coca-Cola Bottling Company, 511 South 1st St., Ponca City, SG100007541

WBBZ Radio Station, 1601 East Oklahoma Ave., Ponca City, SG100007542

Oklahoma County

First Unitarian Church of Oklahoma City, 600 NW 13th St., Oklahoma City, SG100007543

Bradford, William L., Building (Red Brick Warehouses of Oklahoma City TR), 27 East Sheridan Ave., Oklahoma City, MP100007545

Seminole County

Seminole High School, 501 North Timmons St., Seminole, SG100007546

PENNSYLVANIA

Clarion County

Memorial Church of Our Father, 110 Church St., Foxburg Borough, SG100007547

Cumberland County

Heishman Mill, 1215 Creek Rd., West Pennsboro Township, SG100007548

Erie County

Corry Historic District, Roughly bounded by Smith St., Maple Ave., Mill and Church Sts., 2nd and 1st Aves., Allen, Mott, and Grace Sts., Corry, SG100007549

VIRGINIA

Loudoun County

Vandeventer, Dr. Joseph, House, 39901 Highfield Park Ln., Leesburg vicinity, SG100007538

Page County

Koontz-Cave House, 5329 Farmview Rd., Stanley vicinity, SG100007537

Pulaski County

Calfee Training School, 1 Corbin-Harmon Dr., Pulaski, SG100007539

Richmond Independent City

Clovelly, 337 Clovelly Rd., Richmond, SG100007540

WYOMING

Converse County

Old Douglas Armory (Depression Era Federal Projects in Wyoming MPS), 400 West Center St., Douglas, MP100007532

Authority: Section 60.13 of 36 CFR part 60.

Dated: February 23, 2022.
Sherry A. Frear,
Chief, National Register of Historic Places/National Historic Landmarks Program.

[FR Doc. 2022-04717 Filed 3-4-22; 8:45 am]

BILLING CODE 4312-52-P